DEPARTMENT OF HOUSING AND URBAN DEVELOPMENT

[Docket No. FR-4739-N-18]

Notice of Proposed Information Collection: Comment Request; Survey of Neighborhood Networks Centers

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: August 23, 2002

ADDRESSES: Interested persons are invited to submit comments regarding this proposal. Comments should refer to the proposed by name and/or OMB Control Number and should be sent to: Wayne Eddins, Reports Management Officer, Department of Housing and Urban Development, 451 7th Street, SW, L'Enfant Plaza Building, Room 8003, Washington, DC 20410.

FOR FURTHER INFORMATION CONTACT: Delores A. Pruden, Director, Neighborhood Networks, Office of Housing Assistance and Grant Administration, Multifamily Housing Programs, Department of Housing and Urban Development, 451 7th Street SW, Washington, DC 20410, telephone (202) 708-4135 (this is not a toll free number) for copies of the proposed forms and other available information.

SUPPLEMENTARY INFORMATION: The Department is submitting the proposed information collection to OMB or review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Survey of Neighborhood Networks Centers.

OMB Control Number, if applicable: None.

Description of the need for the information and proposed use: Launched by HUD's Office of Multifamily Housing Programs in September 1995, Neighborhood Networks is a community-based program that encourages the development of resource and community technology centers in HuD insured and assisted housing. Common factors have contributed to overall program success and sustainability. Likewise, there are common obstacles to starting and maintaining successful Neighborhood Networks Centers. HUD's Office of Multifamily Housing Programs is planning to conduct surveys of Neighborhood Networks Center Directors to document Center characteristics in five key areas: (1) Center and user demographics, (2) Center capacity, (3) programs offered, (4) overall progress, and (5) obstacles or barriers to success. The surveys will identify commonalities and trends that will guide the future of the Neighborhood Networks Program.

Agency form numbers, if applicable: None.

Estimation of the total numbers of hours needed to prepare the information collection including number of respondents, frequency of response, and hours of response: Based on a starting sample of approximately 1,000 Directors and Coordinators of Neighborhood Networks Centers, and an estimated 80 percent response rate, the survey will be administered to approximately 800 respondents. For the current data collection, the frequency of response will be on occasion and annually, with an estimated response time of 25 minutes per respondent. The estimated total annual burden is 336 hours.

Status of the proposed information collection: New Collection.

Authority: The Paperwork Reduction Act of 1995, 44 U.S.C., Chapter 35, as amended.

Dated: June 13, 2002.
Sean G. Cassidy,
General Deputy Assistant Secretary for Housing-Deputy Federal Housing Commission.

[FR Doc. 02-15807 Filed 6-21-02; 8:45 am]

BILLING CODE 4210-27-M